DEPARTMENT OF COMMERCE

Foreign-Trade Zones Board

[Docket 51-2010]

Foreign-Trade Zone 104—Savannah, GA; Application for Reorganization Under Alternative Site Framework

An application has been submitted to the Foreign-Trade Zones (FTZ) Board (the Board) by the Savannah Airport Commission, grantee of FTZ 104, requesting authority to reorganize the zone under the alternative site framework (ASF) adopted by the Board (74 FR 1170, 1/12/09; correction 74 FR 3987, 1/22/09). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on August 26, 2010.

FTZ 104 was approved by the Board on April 18, 1984 (Board Order 256, 49 FR 17789, 4/25/84) and expanded on November 20, 2008 (Board Order 1587, 73 FR 76610-76611, 12/17/08).

The current zone project includes the following sites: Site 1 (18.0 acres)—Savannah International Airport, Savannah; Site 2 (1,075.0 acres)—Garden City Terminal, 2 Main Street, Chatham County and Ocean Terminal, 950 West River Street, Savannah; Site 2A (1.0 acres)—730 King George Blvd., Savannah; Site 3 (1,820.0 acres)—Crossroads Business Center, I-95 and Godley Road, Chatham County; Site 4 (1,353.0 acres)—SPA Industrial Park, East of the I-95/U.S. 80 Interchange, Chatham County; Site 5 (24.0)—Savannah International Trade and Convention Center, One International Drive, Savannah; Site 6 (24.0 acres)—Mulberry Grove Site, I-95 and State Highway 21, Savannah; Site 7 (1,592.0 acres)—Tradeport Business Center Industrial Park, 380 Sunbury Road, Midway; Site 8 (98.0 acres)—Tremont Road near I-16 and Georgia 516 Interchange, Savannah; Site 9 (15.0 acres)—Savannah Warehouse Services, 145 Distribution Drive, Savannah; and Site 10 (62.9 acres)—Savannah Logistics Park at Morgan Center, S.H. Morgan Parkway and Pooler Parkway, Savannah.

The grantee's proposed service area under the ASF would be the Georgia counties of Bulloch, Bryan, Chatham, Effingham, Evans, Liberty, Long, and Screven, as described in the application. If approved, the grantee would be able to serve sites throughout the service area based on companies' needs for FTZ designation. The proposed service area is within and adjacent to the Savannah Customs and Border Protection port of entry.

The applicant is requesting authority to reorganize its existing zone project to include five of the existing sites as “magnet” sites and is requesting approval of the following additional magnet sites: Proposed Site 11 (1,081.0 acres)—Interstate Centre Industrial Park, 11250 US Highway 280, Black Creek; Proposed Site 12 (1,557.0 acres)—Pooler Megasite, SR307/Dean Forest Road and Pine Meadow Road, Chatham County; and Proposed Site 14 (50.0 acres)—Georgia Ports Authority Terminal, 120 Crossgate Road, Savannah. The applicant is also requesting to include two of the existing sites as “usage-driven” sites and is requesting approval of the following additional “usage-driven” site: Proposed Site 13 (31.0 acres)—Flint River Services, 101 Progress Drive, Rincon. The applicant requests that non-contiguous portions of existing Sites 2 and 7 be renumbered to Sites 15 and 16 respectively. The applicant also requests that FTZ designation be removed from Sites 2A, 4, 5, and 8. Because the ASF only pertains to establishing or reorganizing a general-purpose zone, the application would have no impact on FTZ 104's authorized subzones.

In accordance with the Board's regulations, Maureen Hinman of the FTZ Staff is designated examiner to evaluate and analyze the facts and information presented in the application and case record and to report findings and recommendations to the Board.

Public comment is invited from interested parties. Submissions (original and 3 copies) shall be addressed to the Board's Executive Secretary at the address below. The closing period for their receipt is November 1, 2010. Rebuttal comments in response to material submitted during the foregoing period may be submitted during the subsequent 15-day period to November 15, 2010.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Maureen Hinman at maureen.hinman@trade.gov or (202) 482-0627.

Dated: August 26, 2010.
Andrew McGilvray,
Executive Secretary.

[FR Doc. 2010-21841 Filed 8-31-10; :45 am]

BILLING CODE P